CONSUMER PRODUCT SAFETY COMMISSION

Sunshine Act Meetings

TIME AND DATE: Wednesday, March 13, 2019; 11:00 a.m.*

PLACE: Hearing Room 420, Bethesda Towers, 4330 East West Highway, Bethesda, MD 20814.

STATUS: Commission Meeting—Open to the Public.

MATTER TO BE CONSIDERED: CPSC's FY2020 Performance Budget Request to Congress.

CONTACT PERSON FOR MORE INFORMATION: Alberta E. Mills, Secretary, Division of the Secretariat, Office of the General Counsel, U.S. Consumer Product Safety Commission, 4330 East West Highway, Bethesda, MD 20814, (301) 504-7479.

* The Commission unanimously determined by recorded vote that Agency business requires calling the meeting without seven calendar days advance public notice.

Dated: March 12, 2019.
Alberta E. Mills,
Secretary.

[FR Doc. 2019-04886 Filed 3-12-19; 4:15 pm]

BILLING CODE 6355-01-P